Proclamation 7811 of September 10, 2004

National Days of Prayer and Remembrance, 2004

By the President of the United States of America

A Proclamation

On September 11, 2001, America was attacked with deliberate and massive cruelty. We remember the tragedy of that day. We remember the images of fire, and the final calls of love, and the courage of rescuers who saw death and did not flee. We remember the many good lives that ended too soon. We remember the families left behind to carry a burden of sorrow; they have shown a courage of their own. During this year's National Days of Prayer and Remembrance, Americans join together to pray for those who were lost, and for their loved ones.

Since that day, our Nation has waged a relentless war against terror and evil. We pray for the brave men and women of the United States Armed Forces who are serving our country on the front lines of this war. They have answered a great call, and our Nation is grateful for their courage, love of country, and dedication to duty. We recognize the sacrifice of military families and pray that they find comfort in faith and in knowing that their loved ones are serving an historic cause—defending our country and advancing peace and freedom in the world.

On this third anniversary of September 11th, we feel the warm courage of national unity—a unity of grief and a unity of resolve. And we pray that God will continue to watch over and bless America.

NOW, THEREFORE, I, GEORGE W. BUSH, President of the United States of America, by virtue of the authority vested in me by the Constitution and laws of the United States, do hereby proclaim Friday, September 10, through Sunday, September 12, 2004, as National Days of Prayer and Remembrance. I ask that the people of the United States and places of worship mark these National Days of Prayer and Remembrance with memorial services, the ringing of bells, and evening candlelight remembrance vigils. I invite the people of the world to share in these Days of Prayer and Remembrance.

IN WITNESS WHEREOF, I have hereunto set my hand this tenth day of September, in the year of our Lord two thousand four, and of the Independence of the United States of America the two hundred and twenty-ninth.

B

[FR Doc. 04-20950

Filed 9-14-04; 9:09 am]

Billing code 3195-01-P